ENVIRONMENTAL PROTECTION AGENCY

[EPA-HQ-OAR-2007-0069; FRL-9911-47-OEI]

Information Collection Request Submitted to OMB for Review and Approval; Comment Request; The SunWise Program (Renewal)

AGENCY: Environmental Protection Agency (EPA).

ACTION: Notice.

SUMMARY: The Environmental Protection Agency (EPA) has submitted an information collection request (ICR), “The SunWise Program (Renewal)” (EPA ICR No. 1904.08, OMB Control No. 2060-0439) to the Office of Management and Budget (OMB) for review and approval in accordance with the Paperwork Reduction Act (44 U.S.C. 3501 et seq.). This is a proposed extension of the ICR, which is currently approved through June 30, 2014. Public comments were previously requested via the Federal Register on December 31, 2013 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 7, 2014.

ADDRESSES: Submit your comments, referencing Docket ID Number EPA-HQ-OAR-2007-0069 to (1) EPA online using www.regulations.gov (our preferred method), by email to a-and-r-docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, Office of Atmospheric Programs (6205J), Environmental Protection Agency, 1200 Pennsylvania Ave. NW., Washington, DC 20460; telephone number: (202) 343-9126; fax number: (202) 343-2338; email address: burchard.robert@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The SunWise Program is a school and community-based sun safety education program for children grades K-8. The Program's objective is to reduce the incidence of, and morbidity and mortality from skin cancer, cataracts, and other UV-related health effects in the United States.

Respondents/affected entities: Elementary and middle school students and educators, recreation workers, and health educators.

Respondent's obligation to respond: Voluntary.

Estimated number of respondents: 8,980.

Frequency of response: Annual.

Total estimated burden: 1,632 hours per year. Burden is defined at 5 CFR 1320.03(b).

Total estimated cost: $107,172.45 per year, includes no annualized capital or operation & maintenance costs.

Changes in the Estimates: There is a small change in the total estimated respondent burden compared with the ICR currently approved by OMB due to adjustments.

Dated: May 27, 2014.
Erin Collard,
Acting Director, Collection Strategies Division.

[FR Doc. 2014-12965 Filed 6-3-14; 8:45 am]

BILLING CODE 6560-50-P